DEPARTMENT OF TRANSPORTATION

Federal Aviation Administration

Twenty-Eighth Meeting Special Committee 216 Aeronautical Systems Security

AGENCY: Federal Aviation Administration (FAA), U.S. Department of Transportation (DOT).

ACTION: Notice of Twenty-Eighth Meeting Special Committee 216 Aeronautical Systems Security.

SUMMARY: The FAA is issuing this notice to advise the public of a meeting of Twenty-Eighth Meeting Special Committee 216 Aeronautical Systems Security.

DATES: The meeting will be held July 18, 2016 from 9:00 a.m. to 5:00 p.m.

ADDRESSES: The meeting will be held at The Boeing Company, 1301 SW 16th Street, Building 25-01, Room 22L18, Renton, WA 98057.

FOR FURTHER INFORMATION CONTACT: Karan Hofmann, khofmann@rtca.org, (202) 330-0680 or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Twenty-Eighth Meeting Special Committee 216 Aeronautical Systems Security. The agenda will include the following:

Monday, July 18, 2016—9:00 a.m.-5:00 p.m.

1. Welcome and Administrative Remarks

2. Introductions

3. Agenda Review

4. Meeting-Minutes Review

5. WG-72 Update

6. Schedule Update

7. Date, Place and Time of Next Meeting

8. New Business

9. Adjourn Plenary

Notice: Those who plan to attend in person need to provide the following information to Janice Clark at janice.k.clark2@boeing.com no later than Friday, July 8th:

Name

Country of citizenship

Company

E-mail address

Issued in Washington, DC, on June 29, 2016.
Mohannad Dawoud,
Management & Program Analyst, Partnership Contracts Branch, ANG-A17, NexGen, Procurement Services Division, Federal Aviation Administration.

[FR Doc. 2016-15996 Filed 7-5-16; 8:45 am]

BILLING CODE 4910-13-P